DEPARTMENT OF COMMERCE

Economic Development Administration

Proposed Information Collection; Comment Request; Revolving Loan Fund (RLF) Reporting and Compliance Requirements

AGENCY: Economic Development Administration.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 11, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument and instructions should be directed to Kenneth M. Kukovich, EDA PRA Liaison, Office of Management Services, Economic Development Administration, Department of Commerce, HCHB Room 7227, 1401 Constitution Avenue, NW., Washington, DC 20230; telephone: (202) 482-4965; fax: (202) 501-0766; e-mail: kkukovich@eda.doc.gov.

SUPPLEMENTARY INFORMATION:

I. Abstract

The mission of the Economic Development Administration (EDA) is to lead the Federal economic development agenda by promoting innovation and competitiveness, preparing American regions for growth and success in the worldwide economy. One of EDA's eight economic development programs is the Revolving Loan Fund (RLF) program.

Under the RLF program, EDA's regional offices award competitive grants to units of state and local government, institutions of higher education, public or private non-profit organizations, EDA-approved economic development district organizations, and Indian Tribes to establish RLFs. Following grant award, an RLF grantee disburses money from the RLF to make loans at interest rates that are at or below the current market rate to small businesses or to businesses that cannot otherwise borrow capital. On occasion, RLFs also make loans to finance public infrastructure. As the loans are repaid, the grantee uses a portion of interest earned to pay administrative expenses and adds the remaining principal and interest repayments to the RLF's capital base to make new loans. An RLF award that is well managed is actively used to make loans to eligible businesses and entities, continues to revolve funds, and does not have a termination date.

One of the unique features of the program is that, by law, EDA must exercise fiduciary responsibility over its RLF portfolio in perpetuity—a significant challenge since many RLF grants date back to 1979. EDA's regulations therefore require EDA RLF grantees to submit an ED-209, Semi-annual Report to EDA, every six months for each RLF they operate. In addition, EDA RLF grantees must submit an ED-209I, RLF Income and Expense Statement, if either of the following conditions applies to their RLF: (a) Total administrative expenses for the 6-month period exceed $100,000, or (b) administrative expenses for the 6-month period exceed 50 percent of RLF income for the 6-month period. EDA requires that both of these reports be completed and submitted via the web-based Revolving Loan Fund Management System (RLFMS). This system was successfully launched on April 1, 2010, and was designed to eliminate duplicative data entry fields and pre-populate all calculable fields.

II. Method of Collection

Electronically via the RLFMS.

III. Data

OMB Control Number: 0610-0095.

Form Number(s): ED-209 and ED-209I.

Type of Review: Regular submission (extension of a currently approved information. collection).

Affected Public: Not for-profit institutions; state or local governments.

Estimated Number of Respondents: 1,460.

Estimated Time per Response: ED-209, 3 hours; and ED-209I, 1 hour.

Estimated Total Annual Burden Hours: 3,796.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 4, 2011.
Gwellnar Banks,
Management Analyst, Office of the Chief Information Officer.

[FR Doc. 2011-2894 Filed 2-8-11; 8:45 am]

BILLING CODE 3510-24-P